DEPARTMENT OF HEALTH AND HUMAN SERVICES

Centers for Disease Control and Prevention

[30Day-25-1355]

Agency Forms Undergoing Paperwork Reduction Act Review

In accordance with the Paperwork Reduction Act of 1995, the Centers for Disease Control and Prevention (CDC) has submitted the information collection request titled “Evaluation of the Overdose Data to Action Technical Assistance Hub” to the Office of Management and Budget (OMB) for review and approval. CDC previously published a “Proposed Data Collection Submitted for Public Comment and Recommendations” notice on May 7, 2024, to obtain comments from the public and affected agencies. CDC received one non-substantive public comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Evaluation of the Overdose Data to Action Technical Assistance Hub (OMB Control No. 0920-1355, Exp. 11/30/2024)—Revision—National Center for Injury Prevention and Control (NCIPC), Centers for Disease Control and Prevention (CDC).

Background and Brief Description

The Centers for Disease Control and Prevention (CDC) requests approval of this Revision to support the evaluation of technical assistance (TA) provided for the Overdose Data to Action (OD2A) in States (OD2A-S) and OD2A: Limiting Overdose through Collaborative Actions in Localities (LOCAL) (OD2A: LOCAL) programs. OD2A-S and OD2A: LOCAL are cooperative agreements funded in 2023 to focus on comprehensive and interdisciplinary opioid overdose prevention efforts in 49 state health departments, 39 localities, Puerto Rico, and Washington, DC. Each program consists of two required components—a surveillance component and a prevention component. OD2A recipients implement a combination of activities across nine State strategies and eight local strategies within these components to gain access to high quality and complete data on opioid prescribing and overdoses. The data is used to inform prevention and response efforts in their jurisdictions.

CDC developed and deployed a technical assistance (TA) hub (hereafter referred to as the OD2A TA Center) to deliver comprehensive technical assistance and training to support the successful implementation and evaluation of surveillance and prevention activities. The OD2A TA Center is designed to enhance the efficiency, coordination, and effectiveness of TA efforts by streamlining and centralizing the provision of overdose surveillance and prevention TA. TA to OD2A recipients is divided into four different levels with multiple modes of TA delivery and involves a wide range of TA providers including CDC staff, internal and external subject matter experts (SMEs) and program partners.

The evaluation consists of web-based surveys designed to collect process and outcome measures about TA access, utilization, and outcomes across all OD2A recipient programs. The Technical Assistance Feedback Form will be administered to collect immediate feedback following individual TA encounters and group events such as webinars and in-person trainings. The Annual OD2A TA Survey will be distributed twice (mid-point and final) to assess satisfaction with overall TA provided and the extent to which TA supports informed implementation of OD2A strategies. The information obtained through this evaluation will allow TA providers to assess OD2A recipients' experience and utility of knowledge and resources gained through individual TA support, peer-to-peer sessions, and other group trainings. To capture participants' experiences attending various Communities of Practice held by the DOP TA Center, a subset of attendees will be invited to participate in Focus Groups. Ultimately, the evaluation data will inform subsequent rounds of TA and allow TA providers to make necessary adjustments to the overall TA strategy for continuous quality improvement. This will ensure recipients have the support necessary to implement strategies that will improve opioid surveillance and prevention policies and practices within their communities.

CDC requests OMB approval for an estimated 388 annual burden hours for this collection. There are no costs to respondents other than their time.

Estimated Annualized Burden Hours
Type of respondents | Form name | Number of respondents | Number of responses per respondent | Average burden per response (in hours)
OD2A (OD2A in States and OD2A: LOCAL) Recipients | TA Feedback Form Individual | 618 | 2 | 5/60
| TA Feedback Form Universal | 617 | 2 | 5/60
| Annual Technical Assistance Survey | 162 | 1 | 10/60
| Implementation Feedback Survey | 18 | 1 | 15/60
| Email invitation for Annual Survey | 900 | 1 | 2/60
| Focus Groups Email invitation | 600 | 1 | 2/60
| Focus Group Session Script | 100 | 1 | 1

Jeffrey M. Zirger,
Lead, Information Collection Review Office, Office of Scientific Integrity, Office of Science, Centers for Disease Control and Prevention.

[FR Doc. 2024-24302 Filed 10-18-24; 8:45 am]

BILLING CODE 4163-18-P